DEPARTMENT OF TRANSPORTATION

Federal Aviation Administration

14 CFR Part 73

[Docket No. FAA-2002-13414; Airspace Docket No. 02-AGL-7]

RIN 2120-AA66

Modification of Restricted Areas R-6904A and R-6904B, Volk Field, WI

AGENCY: Federal Aviation Administration (FAA), DOT.

ACTION: Final rule.

SUMMARY: This action raises the upper limit of Restricted Areas 6904A (R-6904A) and R-6904B, Volk Field, WI, from 17,000 feet above mean sea level (MSL) to Flight Level 230 (FL 230). Expanding the vertical limit of these areas facilitates the transition of participating aircraft between these restricted areas and the overlying Volk West Air Traffic Control Assigned Airspace (ATCAA). The additional airspace is needed to fulfill new United States Air Force (USAF) training requirements. This rule makes no other changes to R-6904A or R-6904B.

EFFECTIVE DATE: 0901 UTC, July 10, 2003.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On January 28, 2003, the FAA proposed (68 FR 4118) to amend 14 CFR part 73 to increase the vertical limits of R-6904A and R-6904B from 17,000 feet above MSL to FL 230. The FAA proposed this action in response to a request from the USAF indicating that current airspace is not sufficient to fulfill new training requirements and that participating aircraft must change their flight profile by reducing their airspeed when crossing the 1,000 feet of airspace located above the restricted areas and below the Volk West ATCAA. This requested action facilitates the transition of participating aircraft between these restricted areas and the overlying Volk West ATCAA by eliminating the 1,000-foot gap between the restricted areas and the ATCAA. This action also provides additional airspace needed to fulfill new USAF training requirements. Specifically, new training requirements call for practicing the release of bombs from higher altitudes than are currently available within the existing airspace structure. The new upper limit of FL 230 is suitable for meeting this new training requirement. No other changes to R-6904A or R-6904B are made by this action. Interested parties were invited to participate in this rulemaking proceeding by submitting written comments on this proposal to the FAA.

Discussion of Comment

In response to the Notice of Proposed Rulemaking, the FAA received one comment supporting the proposed change and no comments in opposition to the change.

The Rule

This amendment to 14 CFR part 73 raises the vertical limits of R-6904A and R-6904B from 17,000 feet above MSL to FL 230. This additional altitude is required to eliminate the 1,000-foot gap between the restricted areas and the overlying Volk West ATCAA, and to meet the Air Force's requirement to practice the release of bombs from higher altitudes than are currently available within the existing restricted area airspace. No other changes to R-6904A or R-6904B are made by this action.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The USAF determined that this amendment of the restricted area's designated altitude qualifies for a categorical exclusion. The FAA has reviewed the USAF's environmental documentation and concludes that this action is categorically excluded in accordance with FAA Order 1050.1D, Procedures for Handling Environmental Impacts, and the FAA/DOD Memorandum of Understanding of 1998 regarding Special Use Airspace actions.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.63 [Amended]

2. § 73.63 is amended as follows:

* * * * *

R-6904A Volk Field, WI [Amended]

By removing the current designated altitudes and substituting the following:

Designated altitudes. 150 feet AGL to FL 230.

R-6904B Volk Field, WI [Amended]

By removing the current designated altitudes and substituting the following:

Designated altitudes. Surface to FL 230.

* * * * *

Issued in Washington, DC, on April 16, 2003.
Reginald C. Matthews,
Manager, Airspace and Rules Division.

[FR Doc. 03-10043 Filed 4-22-03; 8:45 am]

BILLING CODE 4910-13-P